DEPARTMENT OF COMMERCE

International Trade Administration

[Application No. 10-6A001]

Export Trade Certificate of Review

ACTION: Corrected notice of application for an amended Export Trade Certificate of Review for Alaska Longline Cod Commission, Application No. 10-6A001.

SUMMARY: The Secretary of Commerce, through the Office of Trade and Economic Analysis (“OTEA”) of the International Trade Administration, has received an application for an amended Export Trade Certificate of Review (“Certificate”). This notice summarizes the proposed amendment and seeks public comments on whether the amended Certificate should be issued.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether a Certificate should be issued. If the comments include any privileged or confidential business information, it must be clearly marked and a nonconfidential version of the comments (identified as such) should be included. Any comments not marked as privileged or confidential business information will be deemed to be nonconfidential.

Written comments should be sent to etca@trade.gov. An original and two (2) copies should also be submitted no later than 20 days after the date of this notice to Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 10-6A001.”

Correction

In the Federal Register of November 3, 2022, in 87 FR 66272, the Export Product defined “ray wings” as being derived from “Alaska skate.” The correct term is “various species of skate.”

These corrections are reflected in the revised Summary of the Application below.

Summary of the Application

Applicant: Alaska Longline Cod Commission, c/o Mundt MacGregor L.L.P., 271 Wyatt Way NE, Suite 106, Bainbridge Island, WA, 98110.

Contact: Duncan McIntosh, Attorney at Law.

Application No.: 10-6A001.

Date Deemed Submitted: October 21, 2022.

Proposed Amendment: Alaska Longline Cod Commission (“ALCC”) seeks to amend its Certificate as follows:

1. Under Export Trade, change references of Export Product to Export Products.

2. Add the following six products as Export Products within the meaning of section 325.2(j) of the Regulations (15 CFR 325.2(j)):

a. cod heads

b. cod collars

c. cod roe

d. cod chu

e. cod milt

f. ray wings

3. Change the reference to Export Product in the following sentence:

Change “Frozen-at-sea means that the Export Product is frozen on the catcher-processor vessel while at-sea immediately after being headed and gutted.” to “Frozen-at-sea means that the Alaska cod is frozen on the catcher-processor vessel while at-sea immediately after being headed and gutted.”

The proposed amendment would result in the following Export Products under Export Trade in the Certificate:

Export Products

ALCC plans to export frozen at-sea, headed and gutted, Alaska cod (Gadus macrocephalus), also known as Pacific cod. Headed and gutted means the head and viscera are removed prior to freezing. Frozen-at-sea means that the Alaska cod is frozen on the catcher-processor vessel while at-sea immediately after being headed and gutted.

ALCC also plans to export byproducts of ALCC frozen-at-sea, headed and gutted Alaska cod: cod heads; cod collars; cod roe; cod chu; cod milt; and ray wings. The cod heads, cod collars, cod roe, cod chu, and cod milt are derived from parts of the Alaska cod remaining after the heading-and-gutting of the cod to produce frozen-at-sea headed and gutted Alaska cod. The ray wings are derived from various species of skate, which are caught incidentally while targeting Alaska cod.

Membership remains the same following this amendment:

1. Akulurak LLC, Seattle, WA;

2. Alaskan Leader Fisheries LLC, Lynden, WA;

3. Alaskan Leader Seafoods LLC, Lynden, WA;

4. Alaskan Leader Vessel LLC, Lynden, WA;

5. Aleutian Longline, LLC, Seattle, WA;

6. Aleutian Spray Fisheries, Inc., Seattle, WA;

7. Beauty Bay Washington, LLC, Bothell, WA;

8. Bering Leader Fisheries LLC, Lynden, WA;

9. Bristol Leader Fisheries LLC, Lynden, WA;

10. Bristol Wave Seafoods, LLC, Seattle, WA;

11. Coastal Alaska Premier Seafoods, LLC, Anchorage, AK;

12. Coastal Villages Longline LLC, Anchorage, AK;

13. Deep Sea Fisheries, Inc., Everett, WA;

14. Gulf Mist, Inc., Everett, WA;

15. Gulf Prowler, LLC, Juneau, AK;

16. Kodiak Leader Fisheries LLC, Lynden, WA;

17. Northern Leader Fisheries LLC, Lynden, WA;

18. Romanzof Fishing Company, L.L.C., Seattle, WA;

19. Shelford's Boat, Ltd., Mill Creek, WA;

20. Siu Alaska Corporation, Anchorage, AK;

21. Starfish Reverse, LLC, Seattle, WA;

22. Tatoosh Seafoods, LLC, Kingston, WA.

Dated: December 14, 2022.
Joseph Flynn,
Director, Office of Trade and Economic Analysis, International Trade Administration, U.S. Department of Commerce.

[FR Doc. 2022-27509 Filed 12-19-22; 8:45 am]

BILLING CODE 3510-DR-P